DEPARTMENT OF VETERANS AFFAIRS

[OMB Control No. 2900-XXXX]

Agency Information Collection Activity: CFM Stakeholder Feedback Survey

AGENCY: Office of Construction and Facilities Management, Department of Veterans Affairs.

ACTION: Notice.

SUMMARY: Office of Construction and Facilities Management, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 3, 2023.

ADDRESSES: Submit written comments on the collection of information through Federal Docket Management System (FDMS) at www.Regulations.gov or to Sandra Martin, Office of Construction and Facilities Management, 003C6A, Department of Veterans Affairs, 810 Vermont Avenue NW, Washington, DC 20420 or email to sandra.martin2@va.gov. Please refer to “OMB Control No. 2900-XXXX” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-XXXX” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, CFM invites comments on: (1) whether the proposed collection of information is necessary for the proper performance of CFM's functions, including whether the information will have practical utility; (2) the accuracy of CFM's estimate of the burden of the proposed collection of information; (3) ways to enhance the quality, utility, and clarity of the information to be collected; and (4) ways to minimize the burden of the collection of information on respondents, including through the use of automated collection techniques or the use of other forms of information technology.

Authority: 44 U.S.C. 3501-21.

Title: CFM Stakeholder Feedback Survey.

OMB Control Number: 2900-XXXX.

Type of Review: New collection.

Abstract: The Office of Construction & Facilities Management (CFM) Stakeholder Feedback Survey collects information for all of CFM's lines of business: major construction, major leases, facility condition assessments, and engineering studies. Respondents are members of project teams, and the information is related to how well the teams are performing. The purpose of the Stakeholder Feedback Survey Program is to improve project team performance across the four lines of business covered by the survey.

Respondents include federal employees in the Department of Veteran Affairs throughout CFM, Veterans Health Administration, and National Cemetery Administration, as well as U.S. Army Corps of Engineers construction management teams. The survey also collects information from members of private contractors associated with the projects described above (e.g., architecture/engineering, construction, developers/lessors). Respondents provide feedback on the performance of the technical sub-teams with whom they have worked on a particular project.

The survey uses a set of ten questions to collect the information on team performance, plus two open-ended questions that address what is going well and concerns. The survey is delivered via email with a link to an online collection instrument. Advance notice and reminder emails are used to encourage participation.

The survey is administered by a federal contracting team (Blue Water Thinking and Booz Allen Hamilton). Raw data is seen and handled only by members of this team. Summary results are provided to CFM via a dashboard designed as part of the contract to design and administer the survey.

Affected Public: Members of private contracting firms associated with the projects described above (e.g., architecture/engineering, construction, developers/lessors) are asked to complete the survey.

Estimated Annual Burden: 77 hours.

Estimated Average Burden per Respondent: 8 minutes.

Frequency of Response: Team members of Major Construction and Major Leasing projects are asked to complete the survey twice a year for the duration of the project. Team members of all other types of projects are asked to complete the survey once a year.

Estimated Number of Respondents: 578.

By direction of the Secretary.
Dorothy Glasgow,
VA PRA Clearance Officer, (Alt.) Office of Enterprise and Integration/Data Governance Analytics, Department of Veterans Affairs.

[FR Doc. 2023-09403 Filed 5-2-23; 8:45 am]

BILLING CODE 8320-01-P